DEPARTMENT OF HEALTH AND HUMAN SERVICES

U.S. National Authority for the WHO Global Code of Practice on the International Recruitment of Health Personnel; Notice of Public Meeting

Time and date: Meeting will be held on June 10th, 2015, 10:00 a.m. to 12:00 p.m. EDT.

Place: Room 405A, U.S. Department of Health & Human Services, 200 Independence Ave. SW., Washington, DC 20201.

Status: Open, but requiring RSVP to us.who.irhp@hhs.gov by June 3rd, 2015.

Purpose: The purpose of the World Health Organization (WHO) Global Code of Practice on International Recruitment of Health Personnel (Global Code) is “to establish and promote voluntary principles and practices for the ethical international recruitment of health personnel and to facilitate the strengthening of health systems.” The United States Government has designated the Office of Global Affairs (OGA) and the Health Resources and Services Administration (HRSA) as co-National Authority to be the point of contact for implementation activities. The Global Code encourages WHO member states to cooperate with all relevant stakeholders in their implementation efforts. This meeting is thus intended to provide an update to all interested stakeholders on U.S. Global Code implementation efforts to date and to provide a forum for questions on activities related to implementation of the Global Code.

The meeting will be open to the public as indicated above, with attendance limited to space available. Individuals who plan to attend and need special assistance, such as sign language interpretation or other reasonable accommodations, should notify within their RSVP at least 10 business days prior to the meeting. Foreign nationals planning to attend the session in person will require additional paperwork for security clearance and that this clearance process requires a minimum of 10 business days.

RSVP: Due to security restrictions for entry into the HHS Humphrey Federal Building, we will need to receive RSVPs for this event. Please send your full name and organization to us.who.irhp@hhs.gov. If you are not a U.S. citizen, you must RSVP no later than May 26th, 2015. Please note this in the subject line of your RSVP, and our office will contact you to gain additional biographical information for your clearance. For U.S. citizens, please RSVP no later than Friday, June 3rd, 2015. Written comments are welcome and encouraged, even if you are planning to attend in person. Please send these to the email address: us.who.irhp@hhs.gov.

Dated: May 7, 2015.
Jimmy Kolker,
Assistant Secretary for Global Affairs, Department of Health and Human Services.

[FR Doc. 2015-11785 Filed 5-14-15; 8:45 am]

BILLING CODE 4150-38-P